DEPARTMENT OF THE INTERIOR

Office of the Secretary

Office of Policy Analysis; Proposed Information Collection; Non-use Valuation Survey, Klamath Basin

AGENCY: U.S. Department of the Interior.

ACTION: Notice; request for comments.

SUMMARY: We (The Department of the Interior) will ask the Office of Management and Budget (OMB) to approve the Information Collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

ADDRESSES: Mail or hand-carry comments to the Department of the Interior, Office of Policy Analysis, Attention: Don Bieniewicz, Mail Stop 3530; 1849 C Street, NW., Washington, DC 20240. If you wish to e-mail comments, the e-mail address is Donald_Bieniewicz@ios.doi.gov. Reference “Klamath non-use value survey” in your e-mail subject line. Include your name and return address in your e-mail message and mark your message for return receipt.

DATES: Public comments will be accepted on or before August 10, 2009.

FOR FURTHER INFORMATION CONTACT: Mr. Benjamin Simon, Acting Director, Office of Policy Analysis, U.S. Department of the Interior telephone at 202-208-5978 or by e-mail at Benjamin_Simon@ios.doi.gov.

SUPPLEMENTARY INFORMATION:

I. Abstract

The Klamath River provides habitat for fall and spring run Chinook salmon (Oncorhynchus tshawytscha), coho salmon (Oncorhynchus kisutch), steelhead trout (Oncorhynchus mykiss), green sturgeon (Acipenser medirostris), Pacific lamprey (Lampetra tridentate), and Pacific eulachon (Thaleichthys pacificus). Some of these species are important components of non-tribal harvest (e.g., fall Chinook, steelhead), some have important subsistence and cultural value to Klamath Basin tribes (e.g., salmon, sturgeon, lamprey, eulachon), and some are at low levels of abundance or ESA-listed (e.g., spring Chinook, lamprey, coho, eulachon). In addition to its importance as fish habitat, the Klamath River also provides water to agriculture through the Bureau of Reclamation's Klamath Irrigation Project. Oversubscription of Klamath water has thwarted recovery of depressed fish stocks and led to economic hardship for farming and fishing communities—prompting federal disaster relief for farmers in 2001 and for fishermen in 2006.

In November 2008 the U.S. Government, the States of Oregon and California, and the utility company PacifiCorp signed an agreement in principle (AIP) to remove four hydroelectric dams on the Klamath River by 2020. Dam removal is being considered a viable alternative to volitional fish passage (ladders and screens), which was being considered by the Federal Energy Regulatory Commission (FERC) as a condition for relicensing of PacifiCorp's hydroelectric project. Parties to the AIP are working with stakeholders (including tribes, fishers, farmers, conservation groups, and local governments) to reach a final agreement that would result in the largest dam removal project in U.S. history. If achieved, this agreement will be part of a comprehensive solution to species recovery, water allocation, and water quality problems in the Klamath Basin.

In October 2011 the Secretary of the Interior is expected to make a final determination regarding dam removal, contingent on results of an economic analysis that will address benefits, costs, and distributional effects of dam removal relative to volitional fish passage.

Dam removal is expected to have positive long-term effects on the viability of fish populations and other aspects of the Klamath Basin ecosystem. Benefits of these environmental improvements include “non-use values,” which accrue to members of the public who value such improvements regardless of whether they ever consume Klamath fish or visit the Klamath Basin. An information collection is planned in order to implement a state-of-the-art non-use valuation survey of the U.S. public that addresses the incremental environmental improvements of dam removal relative to volitional fish passage. This data collection is intended to address one component of an economic analysis that will include all costs and benefits of dam removal relative to volitional fish passage.

| Estimated number of burden hours | Responses
Klamath non-use value survey | 3,000 | 6,000

II. Data

OMB Control Number: None. This is a new collection.

Title: Non-Use Valuation Survey, Klamath River Dam Removal.

Form Number(s): None.

Type of Request: New.

Respondent's Obligation: Voluntary.

Frequency of Collection: One time.

Estimate Annual Number of Respondents: 6,000.

Estimated Total Annual Responses: 6,000.

Estimated Time per Response: 30 minutes.

Estimated Total Annual Burden Hours: 3,000.

III. Request for Comments

We invite comments concerning this IC on: (1) Whether or not the collection of information is necessary, including whether or not the information will have practical utility; (2) the accuracy of our estimate of the burden for this collection of information; (3) ways to enhance the quality, utility, and clarity of the information to be collected; and (4) ways to minimize the burden of the collection of information on respondents. Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: June 3, 2009.
Benjamin M. Simon,
Acting Director, Office of Policy Analysis, U.S. Department of the Interior.

[FR Doc. E9-13376 Filed 6-8-09; 8:45 am]

BILLING CODE 4310-RK-P